DEPARTMENT OF ENERGY

Federal Energy Regulatory Commission

Combined Notice of Filings #1

Take notice that the Commission received the following electric rate filings:

Docket Numbers: ER10-2564-003; ER10-2600-003; ER10-2289-003.

Applicants: UNS Electric, Inc., Tucson Electric Power Company, UniSource Energy Development Company.

Description: Notice of Change in Status of Tucson Electric Power Company, et al.

Filed Date: 1/21/14.

Accession Number: 20140121-5242.

Comments Due: 5 p.m. ET 2/11/14.

Docket Numbers: ER10-2984-015.

Applicants: Merrill Lynch Commodities, Inc.

Description: Notice of Non-Material Change in Status of Merrill Lynch Commodities, Inc.

Filed Date: 1/21/14.

Accession Number: 20140121-5126.

Comments Due: 5 p.m. ET 2/11/14.

Docket Numbers: ER13-1758-000.

Applicants: San Joaquin Cogen, LLC.

Description: Supplement to June 24, 2013 San Joaquin Cogen, LLC Triennial & Tariff Revision filing.

Filed Date: 1/17/14.

Accession Number: 20140117-5339.

Comments Due: 5 p.m. ET 2/7/14.

Docket Numbers: ER14-248-002.

Applicants: Dynegy Oakland, LLC.

Description: Amended Filing—Request for Commission Action to be effective 1/21/2014.

Filed Date: 1/21/14.

Accession Number: 20140121-5018.

Comments Due: 5 p.m. ET 2/11/14.

Docket Numbers: ER14-1089-000.

Applicants: Southern California Edison Company.

Description: Amendment to Exhibit A of Distribution Service Agreement with SCE-RAP for CREST to be effective 12/15/2013.

Filed Date: 1/17/14.

Accession Number: 20140117-5318.

Comments Due: 5 p.m. ET 2/7/14.

Docket Numbers: ER14-1090-000.

Applicants: Entergy Gulf States Louisiana, L.L.C.

Description: Entergy System Agreement Compliance to be effective 12/19/2013.

Filed Date: 1/17/14.

Accession Number: 20140117-5325.

Comments Due: 5 p.m. ET 2/7/14.

Docket Numbers: ER14-1091-000.

Applicants: Entergy Louisiana, LLC.

Description: Entergy System Agreement Compliance to be effective 12/19/2013.

Filed Date: 1/17/14.

Accession Number: 20140117-5328.

Comments Due: 5 p.m. ET 2/7/14.

Docket Numbers: ER14-1092-000.

Applicants: Entergy Mississippi, Inc.

Description: Entergy System Agreement Compliance to be effective 12/19/2013.

Filed Date: 1/17/14.

Accession Number: 20140117-5331.

Comments Due: 5 p.m. ET 2/7/14.

Docket Numbers: ER14-1093-000.

Applicants: Entergy New Orleans, Inc.

Description: Entergy System Agreement Compliance to be effective 12/19/2013.

Filed Date: 1/17/14.

Accession Number: 20140117-5332.

Comments Due: 5 p.m. ET 2/7/14.

Docket Numbers: ER14-1094-000.

Applicants: Entergy Texas, Inc.

Description: Entergy System Agreement Compliance to be effective 12/19/2013.

Filed Date: 1/17/14.

Accession Number: 20140117-5333.

Comments Due: 5 p.m. ET 2/7/14.

Docket Numbers: ER14-1095-000.

Applicants: Southern California Edison Company.

Description: GIA & Distr Serv Agmt for CalWind Resources, Inc. for EKWRA Project to be effective 12/15/2013.

Filed Date: 1/17/14.

Accession Number: 20140117-5334.

Comments Due: 5 p.m. ET 2/7/14.

Docket Numbers: ER14-1096-000.

Applicants: NorthWestern Corporation.

Description: Order No. 784 Compliance Filing (MBR Tariff) to be effective 3/18/2014.

Filed Date: 1/21/14.

Accession Number: 20140121-5000.

Comments Due: 5 p.m. ET 2/11/14.

Docket Numbers: ER14-1097-000.

Applicants: Entergy Arkansas, Inc.

Description: EAI Filing of Executed WDS Agreements to be effective 12/19/2013.

Filed Date: 1/21/14.

Accession Number: 20140121-5001.

Comments Due: 5 p.m. ET 2/11/14.

Docket Numbers: ER14-1098-000.

Applicants: Montana Generation, LLC.

Description: Order No. 784 Compliance Filing to be effective 3/18/2014.

Filed Date: 1/21/14.

Accession Number: 20140121-5002.

Comments Due: 5 p.m. ET 2/11/14.

Docket Numbers: ER14-1099-000.

Applicants: Westar Energy, Inc.

Description: Revision BPU McPherson Electric Interconnection Agreement to be effective 3/1/2014.

Filed Date: 1/21/14.

Accession Number: 20140121-5003.

Comments Due: 5 p.m. ET 2/11/14.

Docket Numbers: ER14-1100-000.

Applicants: Entergy Arkansas, Inc.

Description: Entergy System Agreement Compliance to be effective 12/18/2013.

Filed Date: 1/21/14.

Accession Number: 20140121-5004.

Comments Due: 5 p.m. ET 2/11/14.

Docket Numbers: ER14-1101-000.

Applicants: Southwest Power Pool, Inc.

Description: 2638 Prairie Wind Transmission and OG&E Interconnection Agreement to be effective 12/31/9998.

Filed Date: 1/21/14.

Accession Number: 20140121-5006.

Comments Due: 5 p.m. ET 2/11/14.

Docket Numbers: ER14-1102-000.

Applicants: Northern States Power Company, a Minnesota corporation.

Description: 2014-1-21_NSP-CAPX-CMA-Brookings-0.1.0-filing to be effective 1/1/2014.

Filed Date: 1/21/14.

Accession Number: 20140121-5007.

Comments Due: 5 p.m. ET 2/11/14.

Docket Numbers: ER14-1103-000.

Applicants: Southwest Power Pool, Inc.

Description: 2548R5 KMEA and Westar Energy Meter Agent Agreement to be effective 1/1/2014.

Filed Date: 1/21/14.

Accession Number: 20140121-5012.

Comments Due: 5 p.m. ET 2/11/14.

Docket Numbers: ER14-1104-000.

Applicants: Southwest Power Pool, Inc.

Description: 2564R1 City of Chanute & Westar Energy Meter Agent Agreement to be effective 1/1/2014.

Filed Date: 1/21/14.

Accession Number: 20140121-5014.

Comments Due: 5 p.m. ET 2/11/14.

Docket Numbers: ER14-1105-000.

Applicants: Southwest Power Pool, Inc.

Description: 1374R17 Kansas Power Pool and Westar Meter Agent Agreement to be effective 1/1/2014.

Filed Date: 1/21/14.

Accession Number: 20140121-5017.

Comments Due: 5 p.m. ET 2/11/14.

Docket Numbers: ER14-1106-000.

Applicants: Duke Energy Carolinas, LLC.

Description: OATT Amended Attachment F-2 NITSA to be effective 1/1/2014.

Filed Date: 1/21/14.

Accession Number: 20140121-5020.

Comments Due: 5 p.m. ET 2/11/14.

Take notice that the Commission received the following electric securities filings:

Docket Numbers: ES14-12-000.

Applicants: Southwest Power Pool, Inc.

Description: Supplement to November 21, 2103 Application of Southwest Power Pool, Inc. Under Section 204 of the Federal Power Act for an Order Authorizing the Issuance of Securities under ES14-12.

Filed Date: 1/17/14.

Accession Number: 20140117-5021.

Comments Due: 5 p.m. ET 1/27/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2014.
Nathaniel J. Davis, Sr.,
Deputy Secretary.

[FR Doc. 2014-01730 Filed 1-28-14; 8:45 am]

BILLING CODE 6717-01-P